Title 3—

The President

Executive Order 13793 of April 27, 2017

Improving Accountability and Whistleblower Protection at the Department of Veterans Affairs

By the authority vested in me as President by the Constitution and the laws of the United States of America, it is hereby ordered as follows:

Section 1. Purpose. This order is intended to improve accountability and whistleblower protection at the Department of Veterans Affairs (VA) by directing the Secretary of Veterans Affairs (Secretary) to establish within the VA an Office of Accountability and Whistleblower Protection and to appoint a Special Assistant to serve as Executive Director of the Office.

Sec. 2. Establishing a VA Office of Accountability and Whistleblower Protection. (a) Within 45 days of the date of this order, and to the extent permitted by law, the Secretary shall establish in the VA the Office of Accountability and Whistleblower Protection (Office), and shall appoint a Special Assistant, reporting directly to the Secretary, to serve as Executive Director of the Office. The VA shall provide funding and administrative support for the Office, consistent with applicable law and subject to the availability of appropriations.

(b) To the extent permitted by law, the Office shall:

(i) advise and assist the Secretary in using, as appropriate, all available authorities to discipline or terminate any VA manager or employee who has violated the public's trust and failed to carry out his or her duties on behalf of veterans, and to recruit, reward, and retain high-performing employees;

(ii) identify statutory barriers to the Secretary's authority to discipline or terminate any employee who has jeopardized the health, safety, or well-being of a veteran, and to recruit, reward, and retain high-performing employees; and report such barriers to the Secretary for consideration as to the need for legislative changes;

(iii) work closely with relevant VA components to ensure swift and effective resolution of veterans' complaints of wrongdoing at the VA; and

(iv) work closely with relevant VA components to ensure adequate investigation and correction of wrongdoing throughout the VA, and to protect employees who lawfully disclose wrongdoing from retaliation.

(c) In establishing the Office, the Secretary shall consider, in addition to any other relevant factors:

(i) whether some or all of the functions of the Office are currently performed by an existing VA office, component, or program;

(ii) whether certain administrative capabilities necessary for operating the Office are redundant with those of another VA office, component, or program; and

(iii) whether combining the Office with another VA office, component, or program may improve the VA's efficiency, effectiveness, or accountability.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 27, 2017.

[FR Doc. 2017-08990

Filed 5-1-17; 11:15 am]

Billing code 3295-F7-P